DEPARTMENT OF ENERGY

International Energy Agency Meetings

AGENCY: Department of Energy.

ACTION: Notice of meetings.

SUMMARY: The Industry Advisory Board (IAB) to the International Energy Agency (IEA) will meet during the week of October 25-29, 2004, at the headquarters of the IEA in Paris, France in connection with a Training Session for new Standing Group on Emergency Questions (SEQ) Participants and Selected non-IEA Member Countries, a Non-Member Countries Disruption Simulation Exercise, a meeting of key participants in a Disruption Simulation Exercise (ERE3), ERE3, and a meeting of the SEQ.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(I) of the Energy Policy and Conservation Act (42 U.S.C. 6272(c)(1)(A)(I)) (EPCA), the following notice of meetings is provided:

A meeting of the Industry Advisory Board (IAB) to the International Energy Agency (IEA) will be held at the headquarters of the IEA, 9 rue de la Fédération, Paris, France, commencing on October 25, 2004, at 2:15 p.m.. The purpose of this notice is to permit attendance by representatives of U.S. company members of the IAB at:

(1) The IEA's Training Session for New Standing Group on Emergency Questions (SEQ) Participants and Selected IEA Non-Member Countries to be held on October 25, 2004, commencing at 2:15 p.m. The purpose of the meeting is to educate new delegates to the IEA's SEQ and representatives of selected IEA non-Member countries about the IEA and its emergency response procedures.

(2) The IEA's Non-Member Countries Disruption Simulation Exercise to be held on October 26, 2004, beginning at 9 a.m. and concluding at 3 p.m. The purpose of this meeting is to familiarize and train delegates from countries that are not IEA Members in IEA emergency response procedures by reacting to a hypothetical oil supply disruption scenario.

(3) A meeting with key participants in the IEA's Disruption Simulation Exercise to be held on October 26, 2004, from approximately 4:30-6 p.m. The purpose of this preparatory meeting is to familiarize key participants in ERE3 with the IEA, the purpose and objectives of ERE3, and their roles in the exercise.

(4) The IEA's Disruption Simulation Exercise (ERE3) to be held on October 27-28, 2004, commencing at 9 a.m. on October 27 and again at 9 a.m. on October 28. The purpose of ERE3 is to train IEA government delegates in the use of IEA emergency response procedures by reacting to a hypothetical oil supply disruption scenario. The purpose of the IAB meeting is to collect the reactions and assessments of IAB participants in ERE3, in preparation for the IAB Chairman's report on ERE3 to the IEA's SEQ meeting on October 29, 2004.

(5) A meeting of the IAB to be held on October 29, 2004, commencing at 9 a.m. The purpose of this notice is to permit attendance by representatives of U.S. company members of the IAB at a meeting of the IEA's SEQ at the same time and location.

I. Training Session for New SEQ Participants and Selected IEA Non-Member Countries (Monday, October 25, 2004, 2:15 p.m.)

The Agenda for the meeting is under the control of the IEA. It is expected that the IEA will adopt the following Agenda:

1. Welcome to the IEA.

2. Opening Session Address.

3. Introduction to the IEA Emergency Policies and Objectives.

4. How the Global Oil Market Works.

5. IEA Energy Statistics and Oil Data Systems.

6. IEA Emergency System, Procedures and Measures.

7. The Role of Industry in the IEA Emergency Planning and Procedures.

8. The Emergency Response Oil Disruption Simulation Exercise.

9. Closing Remarks.

II. IEA Non-Member Countries Disruption Simulation Exercise (Tuesday, October 26, 2004, 9 a.m.-3 p.m.)

The Agenda for the meeting is under the control of the IEA. While the meeting is anticipated to involve break-out sessions, the individual subgroups will not include multiple IAB or Reporting Company representatives. It is expected that the IEA will adopt the following Agenda:

1. Plenary Session I

• Welcome Address by the IEA Deputy Executive Director.

• Introduction by the SEQ Chairman.

• Introduction of Simulation and Logistics of the Exercise by the Head of the IEA's Emergency Planning and Preparedness Division.

• Rules are defined and simulation is initiated by the exercise Facilitator.

2. Break-Out Groups Session

• Discuss specific questions on market analysis.

• Role of governments during an oil supply disruption.

• Discuss what actions, if any, should be taken.

3. Plenary Session II

• Presentation of the Break-Out Group Discussions.

• Reactions from the IEA Experts on Fundamentals and Possible Media Reaction.

• Discussion of the Impacts of Actions taken by Governments on the Market.

• Facilitator's Summary of the Key Conclusions.

4. Plenary Session III

• Open discussion—Critique and Conclusions Drawn from the Exercise.

• Chairman's Summary of the Exercise, Conclusions, and Recommendations.

III. Meeting of Key Participants in ERE3 (Tuesday, October 26, 2004, approximately 4:30-6 p.m.)

The Agenda for the meeting is under the control of the IEA. It is anticipated that the Agenda will consist of a review of the ERE3 schedule and briefings on the anticipated roles to be played in the exercise by key participants, e.g., those representing the media, producing countries, and the oil market.

IV.A IEA Industry Advisory Board Meeting (Thursday, October 28, 2004, following the conclusion of ERE3)

The Agenda for the IAB meeting is as follows:

1. Welcome, Review of Agenda, and Introductions.

2. Review of ERE3.

3. Update on Expiration of European Community Exemption for IAB Activities.

4. Closing and Review of Meetings of Interest to IAB Members.

• Strategic Petroleum Reserve (SPR) International Stockholding Conference, November 29-December 2, 2004, Houston, TX.

• SEQ and IAB Meeting, March 15-17, 2005, Paris.

• SEQ and IAB Meeting, June 21-22, 2005, Paris.

• SEQ and IAB Meeting, November 15-17, 2005, Paris.

IV.B IEA Disruption Simulation Exercise (ERE3) (Wednesday October 27, 2004-Thursday October 28, 2004)

The Agenda for ERE3 is under the control of the IEA. While ERE3 will involve break-out sessions, the individual subgroups will not include multiple IAB or Reporting Company representatives. It is expected that the IEA will adopt the following Agenda:

Stage 1. October 27 morning

1. Plenary Session

• Welcome Address by the IEA Deputy Executive Director.

• Introduction by the SEQ Chairman.

• Introduction of the Logistics of the Exercise by the Head of the IEA's Emergency Planning and Preparedness Division.

• Exercise Starts.

• Rules are defined by the exercise Facilitator.

• Stage 1 event is presented.

• Brief analysis of market impact by the IEA.

2. Break-Out Groups Session

• Respond to specific questions on market analysis and IEA decision-making.

• Role of governments during an oil supply disruption.

• Discuss what actions, if any, should be taken.

3. Plenary Session

• Presentation of the Break-Out Group Discussions.

• Presentation of team reports.

• Reactions of the Market Group, Producers Group, and Media Group.

• Discussion of the recommendations.

• Discussion of the impacts of actions taken by governments on the market.

• Facilitator's summary of Stage 1 session.

Stage 2. October 27 afternoon

1. Plenary Session

• Introduction by the SEQ Chairman.

• Exercise initiated by the Facilitator.

• Stage 2 event is presented.

• Brief analysis of market impact by the IEA.

2. Break-Out Groups Session

• Respond to specific questions on market analysis and IEA decision-making.

• Role of governments during an oil supply disruption.

• Discuss what actions, if any, should be taken.

3. Plenary Session

• Presentation of the Break-Out Group Discussions.

• Presentation of team reports.

• Reactions of the Market Group, Producers Group, and Media Group.

• Discussion of the recommendations.

• Discussion of the impacts of actions taken by governments on the market.

• Facilitator's summary of Stage 2 session.

• SEQ Chairman's summary of the day.

Stage 3. October 28

1. Plenary Session

• Introduction by the SEQ Chairman.

• Exercise initiated by the Facilitator.

• Stage 3 event is presented.

• Brief analysis of market impact by the IEA.

2. Break-Out Groups Session.

• Respond to specific questions on market analysis and IEA decision-making.

• Role of governments during an oil supply disruption.

• Discuss what actions, if any, should be taken.

3. Plenary Session

• Presentation of the Break-Out Group Discussions.

• Presentation of team reports.

• Reactions of the Market Group, Producers Group, and Media Group.

• Discussion of the recommendations.

• Discussion of the impacts of actions taken by governments on the market.

• Facilitator's summary of Stage 2 session.

4. Plenary Session—Critique and Conclusions

• Presentation by the Facilitator of the initial assessments of the exercise.

• Initial conclusions by the Market Group, Producers Group, and Media Group.

• Discussion of the types and magnitudes of the recommended responses.

• Discussion of the decision-making process.

• Chairman's initial summary of the exercise and recommendations.

V. Standing Group on Emergency Questions Meeting (Friday, October 29, 2004, 9 a.m.)

The Agenda of the meeting is under the control of the SEQ. It is expected that the SEQ will adopt the following agenda:

1. Adoption of the Agenda.

2. Approval of the Summary Record of the 111th Meeting.

3. Program of Work.

—The SEQ Program of Work for 2005-2006.

4. Update on Compliance with International Energy Program Stockholding Commitments.

—Reports by Non-Complying Member Countries.

5. The Current Oil Market Situation and Emergency Preparedness.

—Discussion of Present Oil Market and Emergency Preparedness.

6. Emergency Response Exercise 3.

—Results of the Exercise in Capitals.

—Summary and Preliminary Conclusions of the Third Emergency Response Simulation Exercise.

7. Report on Current Activities of the IAB.

8. Policy and Other Developments in Member Countries.

—Reporting Member Country Developments to the IA Secretariat.

9. Emergency Response Activities.

—Report on Preparations for the Upcoming MOS/JODI Meeting of Statisticians and Data Contacts.

—Progress Report on the Proposed MOS Addendum on Bilateral Stock Tickets.

—Oil Demand Restraint in the Transport Sector: An Analysis of Potential Fuel Savings.

10. Activities with Non-Member Countries and International Organizations.

—Participation of Non-Member Countries in ERE3 Training and Simulation Exercise.

—Report on ZORD Conference on Compulsory Oil Stocks.

—Situation and Developing Capabilities in Southeast Europe, Slovenia, Sept. 2004.

—Report on KZZZ Conference on Extended European Union-extended Security, Budapest, November 3-5, 2004.

11. Other Documents for Information.

—Emergency Reserve Situation of IEA Member Countries on July 1, 2004.

—Emergency Reserve Situation of IEA Candidate Countries on July 1, 2004.

—Monthly Oil Statistics: July 2004.

—Base Period Final Consumption: 3Q2003-2Q2004.

—Quarterly Oil Forecast.

—Update of Emergency Contacts List.

12. Other Business.

—ERE3 Exercise with Governing Board, December 7, 2004.

—Dates of Next Meetings.

—March 15-17, 2005.

—June 21-22, 2005.

—November 15-17, 2005.

—Changes in the Secretariat and Delegations.

As provided in section 252(c)(1)(A)(ii) of the Energy Policy and Conservation Act (42 U.S.C. 6272(c)(1)(A)(ii)), the meetings of the IAB are open to representatives of members of the IAB and their counsel; representatives of members of the IEA's SEQ; representatives of the Departments of Energy, Justice, and State, the Federal Trade Commission, the General Accounting Office, Committees of Congress, the IEA, and the European Commission; and invitees of the IAB, the SEQ, or the IEA.

Issued in Washington, DC, October 12, 2004.
Samuel M. Bradley,
Assistant General Counsel for International and National Security Programs.

[FR Doc. 04-23228 Filed 10-15-04; 8:45 am]

BILLING CODE 6450-01-P